DEPARTMENT OF COMMERCE

National Oceanic and Atmospheric Administration

DEPARTMENT OF THE INTERIOR

Fish and Wildlife Service

[I.D. 011300C]

Extension of Public Comment Period for Draft Environmental Impact Statement and Application for an Incidental Take Permit for the Tacoma Water Department, Green River Watershed, Habitat Conservation Plan, King County, Washington

AGENCIES: National Marine Fisheries Service (NMFS), National Oceanic and Atmospheric Administration, Commerce; Fish and Wildlife Service (FWS), Interior.

ACTION: Notice of extended public comment period.

SUMMARY: This notice announces a 17-day extension of the public comment period for the Draft Environmental Impact Statement and application for an Incidental Take Permit (Permit) for the Tacoma Water Department, Green River Watershed, Habitat Conservation Plan, King County, Washington. The Permit application includes: (1) the proposed Habitat Conservation Plan; (2) the proposed Implementing Agreement; and, (3) Draft Environmental Impact Statement. Direct mailings have been sent to affected State and local agencies, Federal agencies, Tribes, Federal and State legislators, public interest groups, and other interested parties, informing them of this extension.

DATES: Comments must be received at the appropriate address or fax number (see ADDRESSES) no later than 5:00pm, Pacific standard time, on March 31, 2000.

ADDRESSES: Requests for documents on CD ROM should be made by calling FWS at (360)534-9330. Hardbound copies are also available for viewing, and partial or complete duplication, at the following libraries: Olympia Timberland Library, Reference Desk, 313 8th Avenue SE, Olympia, WA, (360)352-0595; Tacoma Main Public Library, 1102 Tacoma Avenue South, Tacoma, WA, (253)591-5666; Enumclaw City Library, 1700 1st Street, Enumclaw, WA, (360)825-2938; Auburn Public Library, 808 9th Street SE, Auburn, WA, (253)931-3918; and, Seattle Public Library, Government Publications Desk, 1000 4th Avenue, Seattle, WA, (206)386-4636. The documents are also available electronically on the World Wide Web at http://www.r1.fws.gov/.

Written comments on the permit application, Environmental Impact Statement, Plan, and Implementing Agreement should be sent to Tim Romanski, Project Biologist, FWS, 510 Desmond Drive, SE., Suite 102, Lacey, WA, 98503-1273, (telephone: 360/753-5823; facsimile: 360/534-9331), or Mike Grady, Project Biologist, NMFS, 510 Desmond Drive, SE., Suite 103, Lacey, Washington, 98503-1273 (telephone: 360/753-6052; facsimile: 360/753-9517). Comments will not be accepted if submitted via e-mail or the internet. Comments and materials received will also be available for public inspection, by appointment, during normal business hours by calling (360)534-9330.

FOR FURTHER INFORMATION CONTACT: Tim Romanski, FWS,(phone: 360/753-5823, fax: 360/534-9331, e-mail: Tim_Romanski@r1.fws.gov), or Mike Grady, NMFS, (phone: 360/753-6052, fax: 360/753-9517, e-mail: Michael_Grady_AT-NMFS-OFO.1PO-OLES.FWCC_1POHUB@fws.gov).

SUPPLEMENTARY INFORMATION: The original Federal Register publication announcing the public comment period for this project was announced on January 14, 2000 (65 FR 2390). That notice stated that comments would be accepted through March 14, 2000. The purpose of this extension is to provide additional review and comment time in response to requests from several parties.

Dated: March 7, 2000.
Thomas J. Dwyer,
Regional Director, Fish and Wildlife Service, Region 1, Portland, Oregon.
Dated: March 10, 2000.
Wanda L. Cain,
Chief, Endangered Species Division, Office of Protected Resources, National Marine Fisheries Service.

[FR Doc. 00-6413 Filed 3-14-00; 8:45 am]

BILLING CODE 3510-22-F, 4310-22-F